DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 21, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: Simplified Employee Pension—Individual Retirement Accounts Contribution Agreement.

OMB Number: 1545-0499.

Document Number: 5305-SEP.

Abstract: Form 5305-SEP is used by an employer to make an agreement to provide benefits to all employees under a Simplified Employee Pension (SEP) described in Internal Revenue Code section 408(k). This form is not to be filed with the IRS but is to be retained in the employer's records as proof of establishing a SEP and justifying a deduction for contributions to the SEP.

Current Actions: There are no changes to the burden previously approved by OMB. This request is to extend the current approval for another 3 years.

Type of Review: Extension of a currently approved collection.

Affected Public: Business and other for-profit organizations.

Estimated Number of Respondents: 100,000.

Estimated Time per Respondent: 4 hrs., 57 min.

Estimated Total Annual Burden Hours: 495,000.

2. Title: Internal Revenue Service Advisory Council Membership Application.

OMB Number: 1545-1791.

Form Number: 12339.

Abstract: The Federal Advisory Committee Act (FACA) requires that committee membership be balanced in terms of points of view represented and the functions to be performed. As a result, members of specific committees often have both the expertise and professional skills that parallel the program responsibilities of their sponsoring agencies. Selection of committee members is based on the FACA's requirements and the potential member's background and qualifications. Therefore, an application is needed to ascertain the desired skills set for membership. The IRS will also use the information to perform Federal income tax, background, and practitioner checks as required of all members and applicants to the Committee or Council. Information provided will be used to qualify or disqualify individuals to serve as members.

Current Actions: Minor changes were made to form 12239 that included in part 1—there are now 6 check boxes instead of 5, and Part V—a check box has been added. Changes to the burden estimates are due to the most current filing data.

Type of Review: Extension of a currently approved collection.

Affected Public: Individuals or households.

Estimated Number of Respondents: 100.

Estimated Time per Response: 1 hr. 30 min.

Estimated Total Annual Burden Hours: 150.

3. Title: Consumer Cooperative Exemption Application.

OMB Number: 1545-1941.

Form Number: 3491.

Abstract: A cooperative uses Form 3491 to apply for exemption from filing Form 1099-PATR, Taxable Distributions received from Cooperatives. Form 1099-PATR is used to report patronage distributions of $10 or more to a recipient during the calendar year.

Current Actions: There is no change to the paperwork burden previously approved by OMB.

Type of Review: Extension of a currently approved collection.

Affected Public: Business or other for-profit, individuals or households, and farms.

Estimated Number of Respondents: 200.

Estimated Time per Response: 44 min.

Estimated Total Annual Burden Hours: 148 hours.

4. Title: Employee Retention Credit for Employers Affected by Qualified Disaster.

OMB Number: 1545-1978.

Form Number: Form 5884-A.

Abstract: Form 5884-A is used to figure certain credits for disaster area employers. These credits typically include employee retention credits for eligible employers who conducted an active trade or business in certain disaster areas. The credit is equal to 40 percent of qualified wages for each eligible employee (up to a maximum of $6,000 in qualified wages per employee). The estimates in this notice are for estates and trusts filing Form 5884-A.

Current Actions: There is no change to the burden previously approved by OMB. However, the estimated number of responses was reduced to eliminate duplication of burden estimates. The estimated burden for individuals filing Form 5884-A is approved under OMB control number 1545-0074, and the estimated burden for businesses filing Form 5884-A is approved under OMB control number 1545-0123.

Type of Review: Extension of a currently approved collection.

Affected Public: Business or other for-profit organizations, and farms.

Estimated Number of Respondents: 120.

Estimated Time per Respondent: 2.55 hours.

Estimated Total Annual Burden Hours: 306.

Authority: 44 U.S.C. 3501 et seq.

Melody Braswell,
Treasury PRA Clearance Officer.

[FR Doc. 2024-30254 Filed 12-18-24; 8:45 am]

BILLING CODE 4830-01-P